DEPARTMENT OF THE INTERIOR

Bureau of Reclamation

Flaming Gorge Dam, Colorado River Storage Project, Utah

AGENCY: Bureau of Reclamation, Interior.

ACTION: Notice of intent to prepare a draft environmental impact statement and announcement of public scoping meetings.

SUMMARY: The Bureau of Reclamation (Reclamation), the federal agency with administrative and regulatory authority over Flaming Gorge Dam, intends to prepare a draft environmental impact statement (EIS) pursuant to section 102(2)(c) of the National Environmental Policy Act of 1969 (NEPA), as amended, 42 United States Code (U.S.C.) 4332. The EIS will describe the effects of operating Flaming Gorge Dam to achieve the flows recommended by the Recovery Implementation Program for Endangered Fish Species in the Upper Colorado River Basin (Recovery Program), and comply with section 7 of the Endangered Species Act. The purpose of the proposed action is to protect and assist in the recovery of the populations and designated critical habitat of the four endangered fishes [razorback sucker (Xyrauchen texanus), Colorado pikeminnow (Ptychocheilus lucius), humpback chub (Gila cypha), and bonytail (Gila elegans)] that are found in the Green and Colorado River Basins, so that along with other activities in the Recovery Implementation Program Recovery Action Plan (Recovery Action Plan), the fish no longer require protection under the Endangered Species Act, while continuing the other authorized purposes of the Flaming Gorge Unit of the Colorado River Storage Project.

DATES AND ADDRESSES: Public scoping meetings will be held in mid-July in Salt Lake City, Vernal, and Fort Duchesne, Utah; Grand Junction, Colorado; and Rock Springs, Wyoming, to solicit public input regarding relevant environmental issues that should be addressed in the EIS. The schedule of scoping meetings is as follows:

• July 11, 2000, 6-9 p.m., Wyndham Hotel, 215 West South Temple, Salt Lake City, Utah.

• July 12, 2000, 6-9 p.m., Rock Springs Holiday Inn, 1675 Sunset Drive (I-80 Exit 102), Rock Springs, Wyoming.

• July 13, 2000, 6-9 p.m., Adam's Mark Hotel, 743 Horizon Drive (I-70 Exit 31), Grand Junction, Colorado.

• July 18, 2000, 6-9 p.m., Western Park Convention Center, 300 East 200 South, Vernal, Utah.

• July 19, 2000, 6-9 p.m., Ute Tribal Headquarters, 988 South, 7500 East, Fort Duchesne, Utah.

Each scoping meeting will begin with a one-hour open house where the public can view exhibits, informally discuss issues, and ask questions of staff and managers. The open house will be followed by a more formal scoping hearing in which each participant will be given time to make official comments. The comments will be formally recorded. Speakers are encouraged to provide written versions of their oral comments, and any other additional written materials, for the record. Comments should focus on the issues relevant to the proposed action.

Comments may also be sent directly to Mr. Kerry Schwartz at the Bureau of Reclamation's Provo Area Office in Provo, Utah. Written comments should be received no later than September 5, 2000, to be most effectively considered.

Those not desiring to submit comments or suggestions at this time, but who would like to receive a copy of the draft EIS, should write to Mr. Kerry Schwartz. When the EIS is complete, its availability will be announced in the Federal Register, in the local news media, and through direct contact with interested parties. Comments will be solicited on the document.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

The Bureau of Reclamation ensures meeting accessibility to persons with disabilities. If you need special assistance, please contact Kate O'Hare of the Bureau of Reclamation's Provo Area Office at (801) 379-1276.

FOR FURTHER INFORMATION CONTACT: Mr. Kerry Schwartz, Environmental Protection Specialist, Bureau of Reclamation, Provo Area Office, 302 East 1860 South, Provo, Utah 84606-7317; telephone (801) 379-1167; faxogram (801) 379-1159; email: Kschwartz@uc.usbr.gov. Information about the proposed action and the EIS process can also be found on Reclamation's web site at http://www.usbr.gov.

SUPPLEMENTARY INFORMATION:

Background

Flaming Gorge Dam, located on the Green River in northeastern Utah, is an authorized storage unit of the Colorado River Storage Project. The dam was authorized for construction by the Colorado River Storage Project Act of 1956 (Public Law 84-485). The underlying project purposes are defined by section 1 of the Act (43 U.S.C. 620) which authorized the Secretary of the Interior to “construct, operate, and maintain” Flaming Gorge Dam:

. . . for the purposes, among others, of regulating the flow of the Colorado River, storing water for beneficial consumptive use, making it possible for the States of the Upper Basin to utilize, consistently with the provisions of the Colorado River Compact, the apportionments made to and among them in the Colorado River Compact and the Upper Colorado River Basin Compact, respectively, providing for the reclamation of arid and semiarid land, for the control of floods, and for the generation of hydroelectric power, as an incident of the foregoing purposes. . . .

In 1968, Congress enacted the Colorado River Basin Project Act (43 U.S.C. 1501 et seq.). This Act provided for a program for further comprehensive development of Colorado River Basin water resources. Section 1501(a) states:

This program is declared to be for the purposes, among others, of regulating the flow of the Colorado River; controlling floods; improving navigation; providing for the storage and delivery of the waters of the Colorado River for reclamation of lands, including supplemental water supplies, and for municipal, industrial, and other beneficial purposes; improving water quality; providing for basic public outdoor recreation facilities; improving conditions for fish and wildlife, and the generation and sale of electrical power as an incident of the foregoing purposes.

In addition, the Criteria for Coordinated Long-Range Operation of Colorado River Reservoirs (including Flaming Gorge Dam) were mandated by section 1552 of the Colorado River Basin Project Act. Article I.(2) of the criteria requires that the Annual Operating Plan for Colorado River reservoirs “. . . shall reflect appropriate consideration of the uses of the reservoirs for all purposes, including flood control, river regulation, beneficial consumptive uses, power production, water quality control, recreation, enhancement of fish and wildlife, and other environmental factors.”

Construction of Flaming Gorge Dam was completed in 1964 and full operation of the dam and reservoir began in 1967. The powerplant began commercial operation in 1963. The Bureau of Reclamation operates the powerplant located at the base of the dam and the Western Area Power Administration (Western) markets the power.

Reservoir releases through the powerplant currently range from 800 to 4,700 cubic feet per second (cfs). Reclamation established interim operating criteria for Flaming Gorge Dam in September 1974. Under those interim criteria, Reclamation agreed to provide a minimum flow of 400 cfs at all times. Continuous flows of 800 cfs were to be provided for the foreseeable future and under normal conditions. Continuous flows exceeding 800 cfs were to be provided when compatible with other Colorado River Storage Project reservoir operations. The 800 cfs and higher continuous flows were intended to enhance fishing, fish spawning, and boating. Maximum releases (approximately 4,700 cfs) are constrained by generator output and reservoir elevation. In addition, the dam has the capacity to release up to 4,000 cfs through two river outlet tubes that bypass the powerplant, and an additional 28,800 cfs can be released through the spillway. In 1979, Reclamation began releasing water through a multi-level outlet structure to provide warmer water for the downstream fishery.

On February 27, 1980, the Fish and Wildlife Service (Service) requested consultation under section 7 of the Endangered Species Act regarding projects under construction, and for the continued operation of all existing Reclamation projects in the Upper Colorado River Basin (including the Colorado River Storage Project). Formal consultation on operation of Flaming Gorge Dam was initiated on March 27, 1980. Reclamation is the lead agency for the consultation, with Western becoming a party to the consultation in 1991.

Coincident with its request for consultation on the operation of Reclamation projects in the Upper Colorado River Basin, the Service issued a Final Biological Opinion for the Strawberry Aqueduct and Collection System, a major feature of the Central Utah Project, on February 27, 1980. The biological opinion determined that Strawberry Aqueduct Collection System flow depletions from the Duchesne and Green Rivers would likely jeopardize the continued existence of the endangered Colorado pikeminnow and humpback chub. The biological opinion included a reasonable and prudent alternative (RPA) to avoid continued jeopardy to the endangered fish. The RPA was that Flaming Gorge Dam and Reservoir would compensate for those depletions and would be operated for the benefit of the endangered fish in conjunction with its other authorized purposes.

The Service rendered other biological opinions for the Upalco, Jensen, and Uinta Units of the Central Utah Project during the late 1970s and early 1980s that all relied on the operation of Flaming Gorge Dam to provide flows for endangered fishes. Recent biological opinions for the Duchesne River Basin, Narrows Project, Price-San Rafael Salinity Control Project, and other water development related projects in the Colorado River Basin also rely on the operation of Flaming Gorge Dam to provide flows for endangered fishes.

However, because information related to the habitat requirements for the endangered fishes was unavailable, issuance of a final biological opinion by the Service for the operation of Flaming Gorge Dam was delayed until data collection and studies could be completed and used to recommend specific flows in the Green River downstream from the dam. Dam operations were initially evaluated for potential effects on endangered fishes from 1979 to 1984. Releases from the dam were modified from 1985 to 1991 to benefit endangered fishes and allow summer flow regimes in the Green River that could be tested and evaluated.

In 1987, the Recovery Program was initiated. The goals of the Recovery Program are to protect and recover the endangered fish species of the Upper Colorado River Basin so that they no longer need protection by the Endangered Species Act. The states of Colorado, Wyoming and Utah; Reclamation, Western, and the Service; and environmental, water, and power user organizations are all participants in the Recovery Program. Under the Recovery Program, there are five key elements needed to recover the endangered fish species: (1) Habitat management; (2) habitat development/maintenance; (3) native fish stocking; (4) non-native species and sport fish management; and (5) research, data management, and monitoring. The operation of Flaming Gorge Dam is essential to successful implementation of two of these five elements: habitat management and habitat development/maintenance. Operation of the dam is one of many management actions described in the Recovery Action Plan. Implementation of all Recovery Action Plan activities are expected to recover the endangered fish.

Using biological tests and evaluations conducted from 1979 to 1991, the Service issued a biological opinion on the operation of Flaming Gorge Dam on November 25, 1992. That opinion stated that the current (1992) operation of Flaming Gorge Dam was likely to jeopardize the continued existence of the endangered fish in the Green River. The opinion also described elements of an RPA that, in the opinion of the Service, would offset jeopardy to the endangered fishes. The RPA required: (1) Refinement of the operation of Flaming Gorge Dam so that flow and temperature regimes of the Green River more closely resembled historic conditions; (2) conducting a five-year research program including implementation of winter and spring research flows, beginning in 1992, to allow for potential refinement of flows for these seasons. The research program was to be based on the Five-Year Flaming Gorge Flow Recommendations Investigations which was approved by the Recovery Program. The research program was to provide for annual meetings to refine seasonal flows based on research findings and water year forecasts. Except for specific research flows during the five-year research program, year-round flows in the Green River were to resemble a natural hydrograph described under element 1 of the RPA; (3) determination of the feasibility and effects of releasing warmer water during the late spring/summer period and investigation of the feasibility of retrofitting river bypass tubes to include power generation, thereby facilitating higher spring releases; (4) legal protection of Green River flows from Flaming Gorge Dam to Lake Powell; and (5) initiation of discussions with the Service after conclusion of the five-year research program to examine further refinement of flows for the endangered Colorado River fish.

The five-year research program concluded in 1996. The Recovery Program funded a synthesis report of the research and development of the flow recommendations. The synthesis report and flow recommendations provide the basis for Reclamation's proposed action and for additional Section 7 consultation among Reclamation, Western, and the Service. Other threatened and endangered species that may be affected by implementation of the flow recommendations will be included in the discussions with the Service.

Purpose and Need for Action

The purpose of the proposed action is to protect and assist in the recovery of the populations and designated critical habitat of the four endangered fishes, while maintaining the other authorized purposes of the Flaming Gorge Unit of the Colorado River Storage Project. The proposed action is needed because:

1. The populations and critical habitat of endangered fishes have been adversely affected or modified by, among other things, operation of Flaming Gorge Dam.

2. Reclamation is required to avoid jeopardizing the continued existence of listed species, or destruction or adverse modifications to designated critical habitat, due to operation of Flaming Gorge Dam, to the extent possible, in conjunction with other purposes of the Flaming Gorge Unit (dam and reservoir).

3. All federal agencies are required to utilize their authorities in furtherance of the purposes of the Endangered Species Act by carrying out programs for the conservation of listed threatened and endangered species.

4. Operation of Flaming Gorge Dam is a key element of the Recovery Program's objectives of recovering the fish by offsetting the adverse effects of flow depletions from the Green River, and allowing water development in the Upper Colorado River Basin.

5. Flaming Gorge Dam is the primary water storage and delivery facility on the Green River upstream from the confluence with the Colorado River capable of providing sufficient flow management to allow opportunities to conserve endangered fish populations and protect critical habitat.

6. Operation of Flaming Gorge Dam serves as a reasonable and prudent alternative, as defined by the Endangered Species Act, to offset jeopardy to endangered fish and their critical habitat for numerous other existing or proposed water development projects in the Upper Colorado River Basin.

Proposed Action

Reclamation proposes to take action to protect and assist in the recovery of the four endangered fishes and designated critical habitat by modifying operations of Flaming Gorge Dam, to the extent possible, to achieve the recommended flows in the Green River, while continuing the other authorized purposes of the Colorado River Storage Project. Reclamation would implement the proposed action by modifying the operations decision process for Flaming Gorge Dam to provide water releases of sufficient magnitude and with the proper timing and duration considered necessary to assist in the recovery of endangered fish and their designated critical habitat, while maintaining the other authorized purposes of the Flaming Gorge Unit of the Colorado River Storage Project.

The following table summarizes the final flow recommendation for the Green River described in the April 2000 Flow Recommendations for Endangered Fishes in the Green River Downstream of Flaming Gorge Dam report prepared by the Recovery Program. The flow recommendations are specific to three defined reaches of the Green River (from Flaming Gorge Dam to the Colorado River confluence), the period of the year (spring and summer through winter), and five annual hydrologic conditions (wet to dry), with base flows higher in wet years than in drier years.

BILLING CODE 4310-MN-P

BILLING CODE 4310-MN-C

Scope of Analysis

The purpose of this EIS is not to identify and evaluate alternatives that maximize all natural resources upstream and downstream from Flaming Gorge Dam. The purpose of this EIS is to evaluate the impacts of implementing the recommended flows to protect and assist in the recovery of the populations and designated critical habitat of the four endangered fishes living in the Green River downstream from Flaming Gorge Dam.

The proposed scope of the analysis for this EIS will focus on responding to the following analysis question:

If Reclamation operates Flaming Gorge Dam to achieve the flow recommendations needed to protect and assist in the recovery of the endangered fishes and their critical habitat in the Green River, then the effect(s) on other relevant resources/issues, both downstream and upstream from the dam, would be . . .

Scoping conducted for the EIS will be used to identify issues associated with the proposed action and its purpose and need. Scoping will also be used to identify other significant resources that may be affected, identify the interested parties or parties affected by the proposed action, and assist Reclamation in developing reasonable alternatives that are consistent with the intent of the flow recommendations. The geographic scope of the EIS (how far upstream/downstream from the dam can impacts be meaningfully evaluated) has not yet been determined. Reclamation invites comments suggesting a reasonable geographic scope of analysis for the EIS.

As a result of previous discussions with interested parties and earlier scoping activities, Reclamation has identified the following resources or issues as potentially relevant and ones that should be addressed in the EIS: threatened and endangered species, wetland and riparian resources, aquatic resources, water quality, water supply, recreation activities and facilities, cultural resources, power generation, damage to human improvements, operation and maintenance of the dam, sediment transport, vectors such as mosquitoes, social and economic effects, and Indian trust assets. Other relevant issues may be identified as a result of the scoping process associated with completion of this EIS.

Dated: May 31, 2000.
Charles A. Calhoun,
Regional Director, Upper Colorado Region.

[FR Doc. 00-14207 Filed 6-5-00; 8:45 am]

BILLING CODE 4310-MN-P